FEDERAL MARITIME COMMISSION

Ocean Transportation Intermediary License; Applicant

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

Worldwide Shipping Corporation, 1641 W. Main Street, Suite 420, Alhambra, CA 91801. Officer: Willie Y. Wu, President, (Qualifying Individual)

BGI Worldwide Logistics, Inc., 1850 Redondo Ave., #106, Long Beach, CA 90804. Officers: Gabriel Shweiri, President, (Qualifying Individual); Bruce Robertson, Vice President

Eternity International LLC, 704-4 Las Tunas Drive, Suite 113, San Gabriel, CA 91776-1162. Officer: Sheng Chiang, President, (Qualifying Individual)

Comax Worldwide Inc., 147-25 176th Street, Jamaica, NY 11434. Officers: Terence Tsang, President, (Qualifying Individual); Anthony Lo, Vice President

TOP Container Line Inc., 3605 Long Beach Blvd., Suite 321, Long Beach, CA 90807. Officers: Takayoshi Todoroki, Secretary, (Qualifying Individual); Hirofumi Nishimura, President

Non-Vessel Operating Common Carrier and Ocean Freight Forwarder Transportation Intermediary Applicants:

Incopro Corporation, 12800 Aldine Westfield Road, Suite 210, Houston, TX 77039. Officers: Francisco Antonio Gruzman, Jr., (Qualifying Individual); Jerry De Foor, Secretary.

Ocean Freight Forwarders—Ocean Transportation Intermediary Applicants:

Asian Logistics, Inc., 2079 S. Atlantic Blvd., #D, Monterey Park, CA 91754. Officers: Teddy Li, Vice President, (Qualifying Individual) ; Yuen-Ping Li, President

Dated: October 13, 2000.
Bryant L. VanBrakle,
Secretary.

[FR Doc. 00-26779 Filed 10-17-00; 8:45 am]

BILLING CODE 6730-10-P